Title 3—

The President

Proclamation 8009 of April 28, 2006

Older Americans Month, 2006

By the President of the United States of America

A Proclamation

Older Americans represent the finest qualities of our Nation. During Older Americans Month, we honor our older citizens, celebrate their many accomplishments, and learn from their experiences.

Across our country, older Americans are demonstrating personal strength and compassion and are redefining the experience of aging. They are leading active lives, serving in their communities, and reaching out to their fellow Americans. Through organizations like Senior Corps, they are mentoring children, helping victims of natural disasters, and caring for citizens with disabilities. Their good works are changing the lives of many individuals and contributing to the strength of America.

This year's theme, “Choices for Independence,” reflects the importance of our citizens making retirement, lifestyle, and health choices that enhance their quality of life as they grow older. My Administration is committed to strengthening senior programs and ensuring the health and retirement security of older Americans. The Medicare Prescription Drug, Improvement, and Modernization Act of 2003 provides for the biggest improvement in health care for our seniors in nearly 40 years. In addition, the Medicare Prescription Drug Benefit, Medicare Part D, is helping seniors receive the prescription drugs they need at reduced costs.

Our Nation is blessed by our seniors. These individuals teach us lessons of the past, set an example for younger generations, and demonstrate the generosity and love for which Americans are known. This month, I encourage all our citizens to spend time with America's seniors.

NOW, THEREFORE, I, GEORGE W. BUSH, President of the United States of America, by virtue of the authority vested in me by the Constitution and the laws of the United States, do hereby proclaim May 2006 as Older Americans Month. I appreciate our senior citizens for their achievements and contributions to our Nation. I also commend the Federal, State, local, and tribal organizations, service and health care providers, caregivers, and volunteers who dedicate their time and talents to our seniors. I urge all citizens to honor their elders and reaffirm our country's commitment to their well-being this month and throughout the year.

IN WITNESS WHEREOF, I have hereunto set my hand this twenty-eighth day of April, in the year of our Lord two thousand six, and of the Independence of the United States of America the two hundred and thirtieth.

B

[FR Doc. 06-4204

Filed 5-2-06; 8:50 am]

Billing code 3195-01-P